DEPARTMENT OF TRANSPORTATION

Coast Guard

[USCG-2001-11225]

Towing Safety Advisory Committee

AGENCY: Coast Guard, DOT.

ACTION: Notice of public meetings.

SUMMARY: The Towing Safety Advisory Committee's (TSAC) Working Group for Crew Alertness, and its Working Group for the Review of a Report from the Gulf Coast Mariner's Association (GCMA), will meet to discuss alertness risk factors on towing vessels and a variety of concerns expressed by the association in the GCMA report. The meetings are open to the public.

DATES: The Working Groups will meet on Wednesday, January 16, 2002, from 1 p.m. to 5 p.m., and on Thursday, January 17, 2002, from 8 a.m. to 12 noon. These meetings may close early if all business is finished. Requests to make oral presentations should reach the Coast Guard on or before January 15, 2002.

ADDRESSES: The Working Groups will meet in room 6103 of U.S. Coast Guard Headquarters, 2100 Second Street SW, Washington, DC 20593-0001. Send written materials and requests to make oral presentations to Mr. Gerald P. Miante, Commandant (G-MSO-1), Room 1210, U.S. Coast Guard Headquarters, 2100 Second Street SW, Washington, DC 20593-0001. This notice and the Gulf Coast Mariners Association Report #R-276 are available in docket USCG-2001-11225, which is on the Internet at http://dms.dot.gov.

Security notice: All non-military/government participants MUST first go to the security office at Headquarters' Second Street entrance with a photo ID (driver's license) and sign in. You will then receive a pass for the day and be provided an escort. This exercise must be repeated on the second day of the meetings.

FOR FURTHER INFORMATION CONTACT: Mr. Gerald P. Miante, Assistant Executive Director, TSAC, telephone 202-267-0229, fax 202-267-4570, or e-mail at: gmiante@comdt.uscg.mil.

SUPPLEMENTARY INFORMATION: Notice of these meetings is given under the Federal Advisory Committee Act, 5 U.S.C. App. 2.

Agenda of Meetings

The agenda for the Crew Alertness Working Group includes evaluating the criticality of those risk factors identified in distinct towing vessel operating environments, drafting recommendations for measures consistent with the non-regulatory philosophy of the Prevention through People (PTP) program and the Crew Alertness campaign, and making recommendations on the best way to communicate these recommendations to the appropriate audiences. The agenda for the Review Working Group is limited to a review of the issues contained in GCMA report #R-276 and the drafting of recommendations. See the ADDRESSES paragraph above for information on viewing the report, #R-276. Products from both working groups will be presented to the full Committee for approval and transmittal to the Coast Guard at a later date.

Procedural

These meetings are open to the public. Please note that the meetings may close early if all business is finished. Members of the public may make presentations, oral or written, at either meeting. If you would like to make an oral presentation at either meeting, please notify the Assistant Executive Director on or before January 15, 2002.

Information on Services for Individuals With Disabilities

For information on facilities or services for individuals with disabilities or to request special assistance at the meetings, contact the Assistant Executive Director as soon as possible.

Dated: December 21, 2001.
Howard L. Hime,
Acting Director of Standards, Marine Safety and Environmental Protection.

[FR Doc. 01-32030 Filed 12-28-01; 8:45 am]

BILLING CODE 4910-15-U